SECURITIES AND EXCHANGE COMMISSION

Sunshine Act Meeting

Notice is hereby given, pursuant to the provisions of the Government in the Sunshine Act, Public Law 94-409, that the Securities and Exchange Commission will hold an Open Meeting on February 2, 2011 at 10 a.m., in the Auditorium, Room L-002.

The subject matter of the Open Meeting will be:

The Commission will consider whether to propose rules and a form to implement Section 763 of the Dodd-Frank Wall Street Reform and Consumer Protection Act relating to the registration and regulation of security-based swap execution facilities.

At times, changes in Commission priorities require alterations in the scheduling of meeting items.

For further information and to ascertain what, if any, matters have been added, deleted or postponed, please contact:

The Office of the Secretary at (202) 551-5400.

Dated: January 26, 2011.
Elizabeth M. Murphy,
Secretary.

[FR Doc. 2011-2136 Filed 1-27-11; 11:15 am]

BILLING CODE 8011-01-P